DEPARTMENT OF THE INTERIOR

Fish and Wildlife Service

[FWS-R6-ES-2008-N0125, 64411-9821-0031-W3]

Notice of Availability, Draft Restoration Plan and Environmental Assessment

AGENCY: Fish and Wildlife Service, Interior.

ACTION: Notice of Availability, Draft Restoration Plan and Environmental Assessment.

SUMMARY: The U.S. Fish and Wildlife Service (Service), on behalf of the Department of the Interior (DOI), as the natural resource trustee, announces the release for public review of the Draft Natural Resource Damage Restoration Plan and Environmental Assessment (RP/EA) for the Cherokee County Superfund Site, Cherokee County, Kansas. The Draft RP/EA presents the Service's overall approach and preferred restoration alternatives that compensate for impacts to natural resources caused by the release of hazardous substances from former mining activities in Cherokee County, Kansas.

DATES: Written comments must be submitted on or before August 25, 2008.

ADDRESSES: Copies of the RP/EA are available for review during office hours at U.S. Fish and Wildlife Service, Kansas Ecological Services Field Office, 2609 Anderson Avenue, Manhattan, Kansas 66502, and online at http://mountain-prairie.fws.gov/nrda/CherokeeCounty.htm. Requests for copies of the RP/EA may be made to the same address. Copies also will be available at the Columbus, Baxter Springs, and Galena libraries in Cherokee County. Interested members of the public are invited to review and comment on the RP/EA. Written comments will be considered and addressed in the final RP/EA at the conclusion of the 30-day public comment period. Written comments or materials regarding the RP/EA should be sent to the Kansas Ecological Services Field Office at the address given above.

Public Comment Availability: Before including your address, phone number, e-mail address, or other personal identifying information in your comment, be advised that your entire comment—including your personal identifying information—may be made publicly available at any time. While you can ask us in your comment to withhold from public review your personal identifying information, we cannot guarantee that we will be able to do so.

FOR FURTHER INFORMATION CONTACT: Gibran Suleiman, U.S. Fish and Wildlife Service, Kansas Ecological Services Field Office, 2609 Anderson Avenue, Manhattan, Kansas 66502. Interested parties also may call 785-539-3474 ext. 114, or e-mail Gibran_Suleiman@fws.gov for further information.

SUPPLEMENTARY INFORMATION:

Background

The DOI, acting as natural resource Trustee, reached two different natural resource damages settlements with Eagle-Picher Industries, Inc. (Eagle-Picher) in 1991 and LTV Corporation (LTV) in 1986 for natural resource injuries associated with the discharge of hazardous substances at various locations at former mining sites within the Cherokee County Superfund Site, Cherokee County, Kansas. The discharge of hazardous substances injured Service trust resources (migratory birds and threatened and endangered species). The natural resource damages settlement funds compensate for injuries at former lead and zinc mines within the Cherokee County Superfund site and must be used to restore, rehabilitate, replace, and/or to acquire equivalent natural resources at various locations within Cherokee County, Kansas, and in certain cases, in surrounding counties (e.g., Crawford, Montgomery, and Labette Counties).

The RP/EA describes several habitat restoration alternatives. The preferred alternatives consist of, but are not limited to, preservation of high quality prairies and riparian areas, stream sediments dredging, and in some cases, restoration of prairies that have been compromised in some fashion, primarily in Cherokee County. These actions will compensate for injuries to natural resources, including migratory birds, and migratory bird habitat and Threatened and Endangered Species, and are outlined and described in full in the EA/RP.

Author

The primary author of this notice is Gibran Suleiman, U.S. Fish and Wildlife Service, Kansas Ecological Services Field Office, 2609 Anderson Avenue, Manhattan, Kansas 66502.

Authority: The authority for this action is the Clean Water Act (33 U.S.C. 1251, et seq.), and the Comprehensive Environmental Response, Compensation, and Liability Act of 1980 as amended, commonly known as Superfund (42 U.S.C. 9601 et seq.), the Natural Resource Damage Assessment Regulations found at 43 CFR, part 11, and the National Environmental Policy Act. It is intended to describe and evaluate the Trustee's proposal to restore natural resources injured by the release of hazardous materials at the Cherokee County Superfund Site.

Dated: May 15, 2008.
Gary G. Mowad,
Acting Regional Director, Denver, Colorado.

[FR Doc. E8-16936 Filed 7-23-08; 8:45 am]

BILLING CODE 4310-55-P